DEPARTMENT OF AGRICULTURE

Foreign Agricultural Service

Trade Adjustment Assistance for Farmers

AGENCY: Foreign Agricultural Service, USDA.

ACTION: Notice.

The Administrator, Foreign Agricultural Service (FAS), approved a petition for trade adjustment assistance (TAA) that was filed on November 16, 2005, by a group of avocado producers in Florida. The certification date is December 29, 2005. Beginning on January 2, 2006, Florida avocado producers will be eligible to apply for fiscal year 2006 benefits during an application period ending April 3, 2006.

SUPPLEMENTARY INFORMATION: Upon investigation, the Administrator determined that increased imports of avocados contributed importantly to a decline in producer prices of avocados in Florida by 36.1 percent during June 2004 through May 2005, when compared with the previous 5-year average.

Eligible producers must apply to the Farm Service Agency for benefits. After submitting completed applications, producers shall receive technical assistance provided by the Extension Service at no cost and may receive an adjustment assistance payment, if certain program criteria are satisfied. Applicants must obtain the technical assistance from the Extension Service by September 29, 2005, in order to be eligible for financial payments.

Producers of raw agricultural commodities wishing to learn more about TAA and how they may apply should contact the Department of Agriculture at the addresses provided below for General Information.

Producers Certified as Eligible for TAA, Contact: Farm Service Agency service centers in Florida.

For General Information about TAA, Contact: Jean-Louis Pajot, Coordinator, Trade Adjustment Assistance for Farmers, FAS, USDA, (202) 720-2916, e-mail: trade.adjustment@fas.usda.gov.

Dated: December 16, 2005.
W. Kirk Miller,
Acting Administrator, Foreign Agricultural Service.

[FR Doc. E5-8004 Filed 12-28-05; 8:45 am]

BILLING CODE 3410-10-P